ENVIRONMENTAL PROTECTION AGENCY

[FRL-9618-3; EPA-HQ-OEI-2011-0551]

Amendment of the System of Records for Records of Pesticide Applicators Certified Under EPA-Administered Certification Plans (EPA-59)

AGENCY: Environmental Protection Agency.

ACTION: Notice.

SUMMARY: Pursuant to the provisions of the Privacy Act of 1974 (5 U.S.C. 552a), the Environmental Protection Agency's (EPA) Office of Pesticide Programs, Field and External Affairs Division, is giving notice that it proposes to amend an existing system of records that contains personally identifiable information (PII) which is collected in the process of certifying individuals to apply restricted use pesticides (RUPs) as private or commercial applicators. This amendment gives notice that the Agency plans to make the name of the applicator and information pertaining to the certification granted by EPA publicly available on an EPA Web site.

DATES: Effective Dates: Persons wishing to comment on this system of records notice must do so by February 22, 2012.

ADDRESSES: Submit your comments, identified by Docket ID No. EPA-HQ-OEI-2011-0551, by one of the following methods:

• www.regulations.gov: Follow the online instructions for submitting comments.

• Email: oei.docket@epa.gov

• Fax: (202) 566-1752.

• Mail: OEI Docket, Environmental Protection Agency, Mailcode: 2822T, 1200 Pennsylvania Ave. NW., Washington, DC 20460.

• Hand Delivery: OEI Docket, EPA/DC, EPA West Building, Room B102, 1301 Constitution Ave. NW., Washington, DC. Such deliveries are only accepted during the Docket's normal hours of operation, and special arrangements should be made for deliveries of boxed information.

Instructions: Direct your comments to Docket ID No. EPA-HQ-OEI-2011-0551. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room B102, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Nicole Zinn, Office of Pesticide Programs, Field & External Affairs Division, U.S. Environmental Protection Agency, Mail Code 7506P, 1200 Pennsylvania Ave. NW., Washington, DC 20460; telephone number (703) 308-7076.

SUPPLEMENTARY INFORMATION:

I. General Information

The U.S. Environmental Protection Agency has created a Privacy Act system of records to document the Agency's decisions on applications filed requesting certification to apply restricted use pesticides (RUP) under certification plans administered by EPA regional offices or the Office of Pesticide Programs, as described in 75 FR 49489 (August 13, 2010). This system of records, entitled “Records of Pesticide Applicators Certified Under EPA-Administered Certification Plans,” covers the following types of information: (1) Contact information (e.g., name, address, telephone number, email address); (2) identification information (e.g., birth date, proof of identification (e.g., driver's license no.)), physical description (e.g., height, weight, gender, race)); (3) certification information (e.g., EPA certified applicator number, certification type (private or commercial), certification categories (e.g., aerial, aquatic, fumigation), certification issuance and expiration dates, and (4) information regarding qualifications (e.g., scores from EPA certification examinations; records of training and continuing education; state, tribal or other federal agency certification number(s), types, categories, issuance and expiration dates; records of compliance with federal, state and tribal pesticide laws). This information is provided by the pesticide applicators applying for EPA certification or it is generated during the certification process.

Records covered by this system of record notice are subject to Agency-wide security requirements governing all Privacy Act database systems at EPA. As described in the August 13, 2010 FR notice, system administrators may disclose certain personal information (e.g., names, addresses, EPA certification numbers, categories of certification) upon request as described in the section describing routine uses of records maintained in the system. The Tribal Pesticide Program Council and other tribes requested EPA to make certain information available online to facilitate their ability to confirm private and commercial certifications. The Agency plans to publish only the name, zip code and certification information for private applicators.

Dated: January 3, 2012.
Malcom D. Jackson,
Assistant Administrator and Chief Information Officer.

EPA-59

System Name:

Records of Pesticide Applicators Certified Under EPA-Administered Certification Plans

System Location:

USEPA, Office of Pesticide Programs, Field & External Affairs Division, Mail Code 7506P, 1200 Pennsylvania Ave. NW., Washington, DC 20460, and other EPA offices authorized by the Field & External Affairs Division to maintain portions of the system.

Categories of Individuals Covered by the System:

Persons certified or seeking certification to apply restricted use pesticides (RUPs) under Certification Plans administered by EPA.

Categories of Records in the System:

(a) Contact information (e.g., name, address, telephone number, email address).

(b) Identification information (e.g., birth date, proof of identification (e.g., driver's license no.), physical description (e.g., height, weight, gender, race)).

(c) Data generated by EPA in the processing of the EPA certification (e.g., EPA certified applicator number, certification type (private or commercial), certification categories (e.g., aerial, aquatic, fumigation), certification issuance and expiration dates).

(d) Information regarding qualifications (e.g., scores from EPA certification examinations; records of training and continuing education; state, tribal or other federal agency certification number(s), types, categories, issuance and expiration dates; records of compliance with federal, state and tribal pesticide laws).

Authority for Maintenance of the System (Includes Any Revisions or Amendments):

Federal Insecticide, Fungicide, and Rodenticide Act (FIFRA) Section 11(a)(1) provides for the certification of RUP applicators. 40 CFR 171.11 further describes certification procedures including the completion and submission of certification applications to EPA, issuance/revocation of certificates, monitoring of certifications, and applicator recordkeeping requirements. Title 7 United States Code, section 136i(a)(1) authorizes the collection of this information.

Purpose(s):

The primary purpose of the system is to track RUP applicator certifications issued by EPA under pesticide applicator certification plans, including the initial applications/issuance and any renewals, denials, or revocations of certifications. Certified applicators are subject to RUP recordkeeping requirements under FIFRA, section 11 and 40 CFR part 171. The system may also be used to contribute to the development of inspection targeting schemes to verify compliance with recordkeeping requirements for RUPs.

Routine Uses of Records Maintained in the System, Including Categories of Users, and the Purposes of Such Uses:

RUPs may not be distributed, sold, or made available to persons other than certified applicators. The system will be used to record the identity and certification status of pesticide applicators certified by EPA. Certain personal information contained in the system (e.g., date of birth, drivers' license numbers) will be protected from general disclosure under the Privacy Act. However, many of the records will be subject to general routine uses, particularly routine uses A, B, C, F, G, H, K, and L. (See http://www.epa.gov/privacy/notice/general.htm). Routine uses include disclosures to RUP retailers and dealers in order to verify the status of persons claiming to be certified by EPA, and to state or tribal officials intending to grant certifications based upon EPA's prior certification. Information from this system also may be disclosed for law enforcement purposes to federal, state, and tribal officials responsible for pesticide enforcement. Disclosure will assist in determining compliance and non-compliance with Federal, State, and tribal requirements of certified applicators. EPA may also post certain information about certified applicators (name, contact information, and certification information) to an EPA Web site in order to enable interested persons to identify applicators certified by EPA in various categories. The Agency will only publish name, zip code and certification information for private applicators.

Policies and Practices for Storing, Retrieving, Accessing, Retaining, and Disposing of Records in the System:

• Storage: Records will be stored using the Agency's standard database system (e.g., Lotus Notes) and managed by system administrators and Pesticide Office personnel.

• Retrievability: Data will be retrieved by the applicator's name and certification action (e.g., new, recertification, duplicate).

• Safeguards:

—Standard Agency-wide protections for internal databases.

—The access control list is limited to Agency system administrators, individuals responsible for evaluating applications and issuing the EPA certifications and program personnel responsible for data entry. No other EPA personnel have access to the database(s). Program personnel are trained to protect sensitive and confidential information submitted under FIFRA. No external access to the system is provided.

• Retention and Disposal: Records stored in this system are subject to Schedule 090.

• System Manager(s) and Address: Nicole Zinn, Office of Pesticide Programs, Field and External Affairs Division, U.S. Environmental Protection Agency, Mail Code 7506P, 1200 Pennsylvania Ave. NW., Washington, DC 20460; telephone number (703) 308-7076.

Notification Procedures:

Requests to determine whether this system of records contains a record pertaining to you must be sent to the Agency's Freedom of Information Office. The address is: U.S. Environmental Protection Agency; 1200 Pennsylvania Ave. NW., Room 6416 West; Washington, DC 20460; (202) 566-1667; Email: (hq.foia@epa.gov); Attn: Privacy Act Officer.

Record Access Procedures:

Persons seeking access to their own personal information in this system of records will be required to provide adequate identification (e.g., driver's license, military identification card, employee badge or identification card) and, if necessary, proof of authority. Additional identity verification procedures may be required as warranted. Requests must meet the requirements of EPA regulations at 40 CFR part 16.

Contesting Records Procedures:

Requests for correction or amendment must identify the record to be changed and the corrective action sought. Complete EPA Privacy Act procedures are set out at 40 CFR part 16.

Record Source Categories:

There are three sources of data for records stored in the system:

(1) State, tribal or other Federal certification data upon which the EPA certification is based.

(2) Data provided by the requesting applicator at the time of its request for EPA certification.

(3) Data generated by EPA in the processing of the EPA certification.

System exempted from certain provisions of the Privacy Act:

None.

[FR Doc. 2012-614 Filed 1-12-12; 8:45 a.m.]

BILLING CODE 6560-50-P